DEPARTMENT OF STATE

[Public Notice: 7453]

Determination To Transfer Title of Selected Aircraft to the Government of Mexico

Pursuant to section 484(a)(2)(A) of the Foreign Assistance Act of 1961, as amended (“the Act”) and section 1-100(a)(1) of Executive Order No. 12163 (1979), as amended, I hereby determine that section 484(a)(1) of the Act (Which requires that the United States retain title to aircraft made available to foreign countries primarily for narcotics-related purposes) should not apply to three (3) Sikorsky UH-60M “Black Hawk” helicopters, because it is in the United States' national interest to transfer title.

This Determination, supported by the Memorandum of Justification, Section 484 analysis, and the aircraft inventory, shall be notified to the appropriate congressional committees.

Dated: March 2, 2011.
Thomas R. Nides,
Deputy Secretary of State.

[FR Doc. 2011-11550 Filed 5-10-11; 8:45 am]

BILLING CODE 4710-17-P